DEPARTMENT OF TRANSPORTATION

Federal Aviation Administration

14 CFR Part 39

[Docket No. FAA-2016-6429; Directorate Identifier 2015-NM-117-AD]

RIN 2120-AA64

Airworthiness Directives; Airbus Airplanes

AGENCY: Federal Aviation Administration (FAA), DOT.

ACTION: Supplemental notice of proposed rulemaking (SNPRM); reopening of comment period.

SUMMARY: We are revising an earlier notice of proposed rulemaking (NPRM) to supersede Airworthiness Directive (AD) 2015-05-02, which applies to all Airbus Model A318, A319, A320-211, -212, -214, -231, -232, and -233, and A321 series airplanes. This action revises the NPRM by proposing to require revising the maintenance or inspection program to incorporate new or revised structural inspection requirements and adding airplanes to the applicability. We are proposing this AD to address the unsafe condition on these products. Since these actions impose an additional burden over that proposed in the NPRM, we are reopening the comment period to allow the public the chance to comment on these proposed changes.

DATES: The comment period for the NPRM published in the Federal Register on May 11, 2016 (81 FR 29198), is reopened.

We must receive comments on this SNPRM by July 3, 2017.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this SNPRM, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2016-6429; or in person at the Docket Management Facility between 9 a.m. and 5 p.m., Monday through Friday, except Federal holidays. The AD docket contains this SNPRM, the regulatory evaluation, any comments received, and other information. The street address for the Docket Office (phone: 800-647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, WA 98057-3356; telephone 425-227-1405; fax 425-227-1149.

SUPPLEMENTARY INFORMATION:

Comments Invited

We invite you to send any written relevant data, views, or arguments about this proposed AD. Send your comments to an address listed under the ADDRESSES section. Include “Docket No. FAA-2016-6429; Directorate Identifier 2015-NM-117-AD” at the beginning of your comments. We specifically invite comments on the overall regulatory, economic, environmental, and energy aspects of this SNPRM. We will consider all comments received by the closing date and may amend this SNPRM because of those comments.

We will post all comments we receive, without change, to http://www.regulations.gov, including any personal information you provide. We will also post a report summarizing each substantive verbal contact we receive about this SNPRM.

Discussion

On February 25, 2015, we issued AD 2015-05-02, Amendment 39-18112 (80 FR 15152, March 23, 2015) (“AD 2015-05-02”). AD 2015-05-02 requires actions intended to address an unsafe condition on all Airbus Model A318, A319, A320-211, -212, -214, -231, -232, and -233, and A321 series airplanes.

We issued an NPRM to amend 14 CFR part 39 by adding an AD to supersede AD 2015-05-02 that would apply to certain Airbus Model A318, A319, A320-211, -212, -214, -231, -232, and -233, and A321 series airplanes. The NPRM published in the Federal Register on May 11, 2016 (81 FR 29198) (“the NPRM”). The NPRM was prompted by an evaluation by the design approval holder (DAH) which indicates that principal structural elements and certain life-limited parts are subject to widespread fatigue damage (WFD). The NPRM proposed to require revising the maintenance or inspection program, as applicable, to incorporate new or revised structural inspection requirements.

Actions Since the NPRM Was Issued

Since we issued the NPRM, the manufacturer has issued more restrictive airworthiness limitations and added Model A320-251N and -271N airplanes to the applicability.

The European Aviation Safety Agency (EASA), which is the Technical Agent for the Member States of the European Union, has issued EASA Airworthiness Directive 2016-0239, dated December 2, 2016 (referred to after this as the Mandatory Continuing Airworthiness Information, or “the MCAI”), to correct an unsafe condition. The MCAI states:

The airworthiness limitations for Airbus A320 family aeroplanes are currently included in Airbus A318/A319/A320/A321 Airworthiness Limitations Section (ALS) documents. The Damage Tolerant Airworthiness Limitation Items are published in ALS Part 2, approved by EASA.

The instructions contained in the ALS Part 2 have been identified as mandatory actions for continued airworthiness. Failure to comply with these instructions could result in an unsafe condition.

Previously, EASA issued AD 2015-0083 to require accomplishment of all maintenance tasks as described in ALS Part 2 at Revision 03. Since that [EASA] AD was issued, Airbus issued Revision 04, and later on Revision 05 of the ALS Part 2, including new and/or more restrictive items, and new A320 models were certified.

For the reason described above, this [EASA] AD retains the requirements of EASA AD 2015-0083, which is superseded, expands the Applicability by adding the models A320-251N and A320-271N, requires accomplishment of all maintenance tasks as described in the ALS Part 2, Revision 05 (hereafter referred to as `the ALS' in this [EASA] AD), and provides specific compliance times for ALS task 572021-01-1 (Wide Spread Fatigue Damage related).

The required action is revising the maintenance or inspection program to incorporate new or revised structural inspection requirements. The unsafe condition is fatigue cracking, accidental damage, or corrosion in principal structural elements, and WFD, which could result in reduced structural integrity of the airplane. You may examine the MCAI in the AD docket on the Internet at http://www.regulations.gov by searching for and locating Docket No. FAA-2016-6429.

Related Service Information Under 1 CFR Part 51

Airbus has issued the following service information.

• A318/A319/A320/A321 Airworthiness Limitations Section (ALS) Part 1—Safe Life—Airworthiness Limitation Items (SL—ALI), Revision 04, dated June 20, 2016. This service information describes mandatory instructions and airworthiness limitations for the “safe-life” structure.

• A318/A319/A320/A321 ALS Part 2—Damage-Tolerant—Airworthiness Limitation Items (DT—ALI), Revision 05, dated July 8, 2016. This service information describes mandatory instructions and airworthiness limitations arising from fatigue and damage tolerance evaluation of damage tolerant structural elements.

This service information is reasonably available because the interested parties have access to it through their normal course of business or by the means identified in the ADDRESSES section.

Comments

We gave the public the opportunity to participate in developing the NPRM. The following presents the comments received on the NPRM and the FAA's response to each comment.

Requests To Specify Revised Service Information

Airbus requested that we revise the NPRM to specify the latest ALS Part 1 document, which is currently Airbus A318/A319/A320/A321 ALS Part 1 SL—ALI, Revision 03, dated February 22, 2016. Airbus and United Airlines (UAL) requested that we revise the NPRM to specify Revision 05 of Airbus A318/A319/A320/A321 ALS Part 2—DT—ALI, which is expected to be published soon.

We agree with the commenters' requests. We have reviewed the latest ALS documents: Airbus A318/A319/A320/A321 ALS Part 1—SL—ALI, Revision 04, dated June 20, 2016; and Airbus A318/A319/A320/A321 ALS Part 2—DT—ALI, Revision 05, dated July 8, 2016.

We have added paragraph (j) to this proposed AD to specify that the incorporation of Airbus A318/A319/A320/A321 ALS Part 1—SL—ALI, Revision 04, dated June 20, 2016, is a method of compliance for the requirements of paragraph (g)(1) of this proposed AD. We have redesignated subsequent paragraphs accordingly.

We have also revised paragraph (i) of this proposed AD to specify incorporation of Airbus A318/A319/A320/A321 ALS Part 2—DT—ALI, Revision 05, dated July 8, 2016.

Request To Allow Repair Design Approval Sheets (RDAS)

UAL requested that we allow the instructions for continued airworthiness (ICA) defined in Airbus/EASA-approved RDAS as an acceptable adaptation to an ALI task for the affected repair location in lieu of obtaining approval of an FAA alternative method of compliance (AMOC). UAL stated that paragraph (j) of the proposed AD (in the NPRM) (referred to as paragraph (k) of this proposed AD (in the SNPRM)) prohibits alternative action(s), including inspections and/or intervals, unless approved by an AMOC.

We do not agree with UAL's request. 14 CFR part 39.17 states that if a change in a product affects an operator's ability to accomplish the actions required by the airworthiness directive in any way, the operator must request FAA approval of an AMOC. For approval of an AMOC, the operator must provide evidence that the change will eliminate the unsafe condition or include the specific proposed actions to address the unsafe condition. An operator can submit a RDAS as substantiation to support a request for an AMOC in accordance with the procedures specified in paragraph (l)(1) of this proposed AD. We have not changed this proposed AD in this regard.

Request for Repair Policy Clarification

UAL requested that we clarify the repairs required by the proposed AD. UAL explained that paragraph 5.3 of Airbus A318/A319/A320/A321 ALS Part 2, DT—ALI, Revision 04, dated December 18, 2015, states that operators must follow the structural repair manual or RDAS in case of damage or repairs. UAL stated that it is not certain that this provision provides authority to incorporate the adapted ICA for the repairs without requesting approval of an FAA AMOC.

We agree that clarification is necessary. AMOCs are not required to address findings from the required ALS inspection because the AD does not mandate corrective actions. An AMOC is only required if there are deviations from the ALS inspection method or interval. Operators of U.S.-registered airplanes are required by general airworthiness and operational regulations to perform maintenance using methods that are acceptable to the FAA. We have not changed this proposed AD in this regard.

FAA's Determination and Requirements of This SNPRM

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Certain changes described above expand the scope of the NPRM. As a result, we have determined that it is necessary to reopen the comment period to provide additional opportunity for the public to comment on this SNPRM.

Costs of Compliance

We estimate that this proposed AD affects 1,182 airplanes of U.S. registry.

The actions required by AD 2015-05-02, and retained in this proposed AD, take about 2 work-hours per product, at an average labor rate of $85 per work-hour. Based on these figures, the estimated cost of the actions that are required by AD 2015-05-02 is $170 per product.

We also estimate that it will take about 2 work-hours per product to comply with the basic requirements of this proposed AD. The average labor rate is $85 per work-hour. Based on these figures, we estimate the cost of this proposed AD on U.S. operators to be $200,940, or $170 per product.

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2015-05-02, Amendment 39-18112 (80 FR 15152, March 23, 2015), and adding the following new AD:

Airbus: Docket No. FAA-2016-6429; Directorate Identifier 2015-NM-117-AD.

(a) Comments Due Date

We must receive comments by July 3, 2017.

(b) Affected ADs

This AD replaces AD 2015-05-02, Amendment 39-18112 (80 FR 15152, March 23, 2015) (“AD 2015-05-02”).

(c) Applicability

This AD applies to the Airbus airplanes identified in paragraphs (c)(1) through (c)(4) of this AD, certificated in any category, with an original certificate of airworthiness or original export certificate of airworthiness issued on or before July 8, 2016.

(1) Model A318-111, -112, -121, and -122 airplanes.

(2) Model A319-111, -112, -113, -114, -115, -131, -132, and -133 airplanes.

(3) Model A320-211, -212, -214, -216, -231, -232, -233, -251N, and -271N airplanes.

(4) Model A321-111, -112, -131, -211, -212, -213, -231, and -232 airplanes.

(d) Subject

Air Transport Association (ATA) of America Code 05, Periodic Inspections.

(e) Reason

This AD was prompted by an evaluation by the design approval holder which indicates that principal structural elements and certain life-limited parts are subject to widespread fatigue damage (WFD). We are issuing this AD to prevent fatigue cracking, accidental damage, or corrosion in principal structural elements, and WFD, which could result in reduced structural integrity of the airplane.

(f) Compliance

Comply with this AD within the compliance times specified, unless already done.

(g) Retained Maintenance or Inspection Program Revision, With No Changes

This paragraph restates the requirements of paragraph (n) of AD 2015-05-02, with no changes. Within 30 days after March 2, 2015 (the effective date of AD 2014-23-15, Amendment 39-18031 (80 FR 3871, January 26, 2015) (“AD 2014-23-15”)), revise the maintenance or inspection program, as applicable, to incorporate the Airworthiness Limitation Items (ALIs) specified in paragraphs (g)(1) and (g)(2) of this AD. The initial compliance time for accomplishing the actions is at the applicable time identified in the ALIs specified in paragraphs (g)(1) and (g)(2) of this AD; or within 4 months after March 2, 2015 (the effective date of AD 2014-23-15); whichever occurs later.

(1) Airbus A318/A319/A320/A321 ALS Part 1—Safe Life Airworthiness Limitation Items, Revision 02, dated May 13, 2011.

(2) Airbus A318/A319/A320/A321 ALS Part 2—Damage-Tolerant Airworthiness Limitation Items (DT ALI), Revision 02, dated May 28, 2013.

(h) Retained Limitation: No Alternative Actions, Intervals, and/or Critical Design Configuration Control Limitations (CDCCLs), With an Exception

This paragraph restates the requirements of paragraph (o) of AD 2015-05-02, with an exception. Except as specified in paragraph (i) or (j) of this AD, as applicable, after accomplishing the revision required by paragraph (g) of this AD, no alternative actions (e.g., inspections), intervals, and/or CDCCLs may be used unless the actions, intervals, and/or CDCCLs are approved as an alternative method of compliance (AMOC) in accordance with the procedures specified in paragraph (l)(1) of this AD.

(i) New Maintenance or Inspection Program Revision

Within 60 days after the effective date of this AD, revise the maintenance or inspection program, as applicable, to incorporate the ALIs specified in Airbus A318/A319/A320/A321 ALS Part 2, Damage Tolerant Airworthiness Limitation Items (DT—ALI), Revision 05, dated July 8, 2016. The initial compliance time for accomplishing the actions is at the applicable time identified in the ALIs specified in

Airbus A318/A319/A320/A321 ALS Part 2, DT—ALI, Revision 05, dated July 8, 2016, without exceeding the inspection intervals in the ALIs specified in the service information identified in paragraph (g)(2) of this AD. Accomplishing this action terminates the requirements of paragraph (g)(2) of this AD.

(j) New Method of Compliance for Maintenance or Inspection Program Revision

Revising the maintenance or inspection program, as applicable, to incorporate the ALIs specified in Airbus A318/A319/A320/A321 Airworthiness Limitations Section (ALS) Part 1—Safe Life Airworthiness Limitation Items (SL—ALI), Revision 04, dated June 20, 2016, is a method of compliance for the actions required by paragraph (g)(1) of this AD. The initial compliance time for accomplishing the actions is at the applicable time identified in the ALIs specified in Airbus A318/A319/A320/A321 Airworthiness Limitations Section (ALS) Part 1—Safe Life Airworthiness Limitation Items (SL—ALI), Revision 04, dated June 20, 2016, without exceeding the inspection intervals in the ALIs specified in the service information identified in paragraph (g)(1) of this AD. Accomplishing this action terminates the requirements of paragraph (g)(1) of this AD.

(k) New No Alternative Actions and/or Intervals

After accomplishing the revision required by paragraph (i) or specified in paragraph (j) of this AD, no alternative actions (e.g., inspections) and/or intervals may be used unless the actions and/or intervals are approved as an AMOC in accordance with the procedures specified in paragraph (l)(1) of this AD.

(l) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to the attention of the person identified in paragraph (m)(2) of this AD. Information may be emailed to: 9-ANM-116-AMOC-REQUESTS@faa.gov.

(i) Before using any approved AMOC, notify your appropriate principal inspector, or lacking a principal inspector, the manager of the local flight standards district office/certificate holding district office.

(ii) AMOCs approved previously for AD 2015-05-02, are approved as AMOCs for the corresponding provisions of paragraphs (g) and (h) of this AD.

(2) Contacting the Manufacturer: As of the effective date of this AD, for any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(m) Related Information

(1) Refer to Mandatory Continuing Airworthiness Information (MCAI) EASA Airworthiness Directive 2016-0239, dated December 2, 2016, for related information. This MCAI may be found in the AD docket on the Internet at http://www.regulations.gov by searching for and locating Docket No. FAA-2016-6429.

(2) For more information about this AD, contact Sanjay Ralhan, Aerospace Engineer, International Branch, ANM-116, Transport Airplane Directorate, FAA, 1601 Lind Avenue SW., Renton, WA 98057-3356; telephone 425-227-1405; fax 425-227-1149.

(3) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this service information at the FAA, Transport Airplane Directorate, 1601 Lind Avenue SW., Renton, WA. For information on the availability of this material at the FAA, call 425-227-1221.

Issued in Renton, Washington, on May 8, 2017.
Michael Kaszycki,
Acting Manager, Transport Airplane Directorate, Aircraft Certification Service.

[FR Doc. 2017-10034 Filed 5-18-17; 8:45 am]

BILLING CODE 4910-13-P